DEPARTMENT OF LABOR

Office of the Secretary

Submission for OMB Review; Comment Request

April 29, 2003.

The Department of Labor (DOL) has submitted the following public information collection request (ICR) to the Office of Management and Budget (OMB) for review and approval in accordance with the Paperwork Reduction Act of 1995 (Pub. L. 104-13, 44 U.S.C. Chapter 35). A copy of this ICR, with applicable supporting documentation, may be obtained by calling the Department of Labor. To obtain documentation contact Darrin King at (202) 693-4129 (this is not a toll-free number) or E-Mail King.Darrin@dol.gov.

Comments should be sent to Office of Information and Regulatory Affairs, Attn: OMB Desk Office for the Employee Benefits Security Administration, Office of Management and Budget, Room 10235, Washington, DC 20503 ((202) 395-7316), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and minimize the burden of the collection of information on those who are to respond, including through the use of appropriate automated, electronic, mechanical, or other technological collection techniques or other forms of information technology, e.g., permitting electronic submission of responses.

Agency: Employee Benefits Security Administration (EBSA).

Type of Review: Extension of a currently approved collection.

Title: Prohibited Transaction Class Exemption for Cross-Trades of Securities by Index and Model-Driven Funds (PTCE 2002-12).

OMB Number: 1210-0115.

Affected Public: Business or other for-profit; Not-for-profit institutions; and Individuals or households.

Frequency: On occasion and Annually.

Type of Response: Recordkeeping and Third party disclosure.

Number of Respondents: 60.

Number of Annual Responses: 840.

Estimated Time Per Response: 30 minutes for record keeping and 40 minutes for disclosure (30 minutes to prepare disclosure and 10 minutes for assembly and distribution).

Total Burden Hours: 4,328.

Total Annualized Capital/Startup Costs: $0.

Total Annual Costs (operating/maintaining systems or purchasing services): $95,659.

Description: Prohibited Transaction Exemption 2002-12 (Federal Register/Vol. 67, No. 29/Tuesday, February 12, 2002) exempts certain transactions that would be prohibited under the Employee Retirement Income Security Act of 1974 (ERISA) and the Federal Employee's Retirement System Act.

In order for the Department to grant an exemption for a transaction or class of transactions that would otherwise be impermissible under ERISA, the statue requires the Department to make a finding that the exemption is administratively feasible, in the interest of the plan and its participants and beneficiaries, and protective of the rights of the participants and beneficiaries. To insure that investment managers have complied with the requirements of the exemption, the Department has included in the exemption certain recordkeeping and disclosure obligations that are designed to safeguard plan assets by periodically providing information to independent plan fiduciaries about changes in the cross-trading program. Initially, where plans are not invested in Funds, investment managers must have authorization from a plan fiduciary to invest plan assets in Funds. For plans that are currently invested in Funds, certain notices must be provided that describe the cross-trading program, update changes in Funds, and provide the plan with an opportunity to withdraw from the program. For Large Accounts, information must be provided by the investment manager about the results of transactions involved in a portfolio-restructuring program.

Finally, the exemption requires that Funds and Large Accounts maintain for a period of 6 years the records necessary to enable certain persons authorized by the exemption (e.g., Department representatives or contributing employers, to determine whether the conditions of the exemption have been met.)

The exemption affects participants and beneficiaries of employee benefit plans whose assets are invested in Index or Model-Driven funds, large pension plans and other large accounts involved in portfolio restructuring programs, as well as the Funds and their investment managers.

Ira L. Mills,
Departmental Clearance Officer.

[FR Doc. 03-11132 Filed 5-5-03; 8:45 am]

BILLING CODE 4510-29-M